ENVIRONMENTAL PROTECTION AGENCY

[FRL-6859-6]

Regulatory Reinvention (XL) Pilot Projects

AGENCY: Environmental Protection Agency (EPA).

ACTION: Notice of availability of Narragansett Bay Commission (NBC) Pretreatment Project XL Draft Final Project Agreement.

SUMMARY: EPA is today requesting comments on a draft Project XL Final Project Agreement (FPA) for the Narragansett Bay Commission (NBC). The FPA is a voluntary agreement developed collaboratively by NBC, stakeholders, the state of Rhode Island, and EPA. Project XL, announced in the Federal Register on May 23, 1995 (60 FR 27282), gives regulated sources the opportunity to propose alternative strategies that will replace or modify specific regulatory requirements on the condition that they produce greater environmental benefits.

NBC operates the wastewater collection and treatment system for the greater Providence area as well as regulates the facilities that discharge to the collection system. Through its Industrial Pretreatment Program, which is required to operate under its Rhode Island Pollution Discharge Elimination System (RIPDES) permits, NBC collects and regulates wastewater discharges from approximately 360,000 people and 8,000 businesses and includes two treatment plants.

In 1994, NBC developed two regulatory/pollution prevention integration programs, NBC Metal finishing 2000 and CLEAN P2 Regulatory Relief. The programs test new regulatory approaches to improve environmental compliance by the local industrial community.

NBC would like to expand the projects currently being tested by offering flexibility with state and federal requirements, in addition to specific NBC regulations, in order to investigate and demonstrate improved environmental procedures and practices. NBC would like the flexibility to reduce self-monitoring requirements and inspections for Significant Industrial Users (SIUs), so staff can focus on problem industries. Specifically, NBC requests a modification to portions of the pretreatment regulations found at 40 Code of Federal Regulations (CFR) Part 403 for up to ten metal finishing companies that have established a history of exemplary environmental performance and compliance (described as Tier 1 facilities) as an incentive to maintain their performance. Eliminating certain inspection and monitoring requirements for these high performing companies will allow NBC to refocus its resources towards increased compliance inspections, pollution prevention audits and technical assistance on lower level performers (Tier 2 facilities).

The primary goal of this XL Project is to demonstrate that through more efficient use of existing resources and manpower, NBC can achieve measurable improvements in the environmental performance levels of Tier II companies while encouraging and assisting Tier I companies to maintain or possibly improve their current level of environmental performance.

Once a facility is selected for Tier 1 status, it may request, as part of Project XL, program modifications in three areas. These include: (1) Reduced frequency of required inspections, (2) reduced frequency of self-monitoring of wastewater effluent, and (3) elimination of categorical self-monitoring for certain constituents not used within a facility. The facility must meet specific criteria for each type of regulatory relief being sought (the exact qualifications necessary to obtain each of the three regulatory benefits being offered as part of this project are described in the FPA). For example, if a facility sought a reduced compliance inspection frequency by NBC, it would have to show, among other things, that they have not had any record keeping, reporting or operational violations in the last three years. If a facility requests a reduced frequency of self-monitoring, it must show, among other things, a pattern of nothing worse than infrequent minor discharge violations.

Generally NBC inspects each of their significant industrial users (SIUs) once every 6 months, while the federal requirement is once every year. As part of this XL Project, NBC is requesting that they be allowed to reduce their compliance inspection frequency of qualified Tier 1 facilities to once every two years. NBC intends to use the resources saved by not inspecting Tier 1 facilities to increase the frequency of compliance inspections at Tier 2 facilities. See the FPA for a more detailed breakdown of NBC's resource reallocation.

Ten Tier 2 facilities will be selected from NBC's metal finishing user base that have shown a poor record of environmental performance but have also expressed an interest to implement recommended pollution prevention projects that may be offered by NBC. NBC will select these facilities in consultation with RIDEM and EPA. At a minimum, facilities showing a pattern of repeat violations or lack of responsiveness to NBC Notices of Violation or Letters of Deficiency will not be considered in this Project.

NBC has proposed as a goal that this XL project will result in several areas of pollution reduction. Over the six years of this project, NBC proposes the goal that the Tier 2 facilities will reduce their process water usage by 25%, total metals (which include the regulated metal finishing pollutants along with arsenic and selenium) loadings in their effluent discharge by 25% and their generation of F006 waste by 25% as well. Progress towards these goals will be evaluated against one year of information collected from the facility by NBC for the year preceding selection as a Tier 2 facility. NBC would then compile annual information and report progress towards the 25% reduction goals in each annual report. NBC also projects as a goal that Tier 2 facilities will improve their compliance rate by 75%.

EPA intends to propose a rule modifying the pretreatment regulations, as described above and further described in the FPA, in a separate future Federal Register Notice. The public will have an opportunity to comment on the proposed rule changes at that time.

DATES: The period for submission of comments ends on September 12, 2000.

ADDRESSES: All comments on the proposed Final Project Agreement should be sent to: Chris Rascher, EPA New England, 1 Congress Street (SPP), Boston, MA 02114, or Chad Carbone, U.S. EPA, Room 1027WT (1802), 1200 Pennsylvania Ave., NW, Washington, DC 20460. Comments may also be faxed to Mr. Rascher (617) 918-1810, or Mr. Carbone (202) 260-1812. Comments may also be received via electronic mail sent to: rascher.chris@epa.gov or carbone.chad@epa.gov.

FOR FURTHER INFORMATION CONTACT: To obtain a copy of the proposed Final Project Agreement, Test Plan or Fact Sheet, contact: Chris Rascher, EPA New England, 1 Congress Street (SPP), Boston Massachusetts, 02114 or Chad Carbone, Room 1027WT (1802) U.S. EPA, 1200 Pennsylvania Ave., NW, Washington, DC 20460. The FPA and related documents are also available via the Internet at the following location: http://www.epa.gov/ProjectXL. Questions to EPA regarding the documents can be directed to Chris Rascher at (617) 918-1834 or Chad Carbone at (202) 260-4296. For information on all other aspects of the XL Program contact Christopher Knopes at the following address: Office of Policy, Economics and Innovation, United States Environmental Protection Agency, 1200 Pennsylvania Ave., NW, Room 1029WT (Mail Code 1802), Washington, DC 20460. Additional information on Project XL, including documents referenced in this notice, other EPA policy documents related to Project XL, regional XL contacts, application information, and descriptions of existing XL projects and proposals, is available via the Internet at http://www.epa.gov/projectxl/inter/page1.htm.

Dated: August 22, 2000.
Elizabeth A. Shaw,
Director, Office of Environmental Policy Innovation.

[FR Doc. 00-22053 Filed 8-28-00; 8:45 am]

BILLING CODE 6560-50-P